DEPARTMENT OF ENERGY

Federal Energy Regulatory Commission

Combined Notice of Filings #1

Take notice that the Commission received the following exempt wholesale generator filings:

Docket Numbers: EG25-516-000.

Applicants: Sunset Ridge Energy Center, LLC.

Description: Sunset Ridge Energy Center, LLC submits Notice of Self-Certification of Exempt Wholesale Generator Status.

Filed Date: 9/5/25.

Accession Number: 20250905-5113.

Comment Date: 5 p.m. ET 9/26/25.

Docket Numbers: EG25-517-000.

Applicants: Citrus Flatts Energy Center, LLC.

Description: Citrus Flatts Energy Center, LLC submits Notice of Self-Certification of Exempt Wholesale Generator Status.

Filed Date: 9/5/25.

Accession Number: 20250905-5114.

Comment Date: 5 p.m. ET 9/26/25.

Take notice that the Commission received the following electric rate filings:

Docket Numbers: ER10-2895-024; ER14-1964-015; ER16-287-010; ER12-161-026; ER20-2028-001; ER13-2143-017; ER10-3167-017; ER13-203-016; ER12-2068-021; ER17-482-009; ER19-1074-009; ER10-1427-003; ER20-1447-005; ER10-2917-024; ER19-1075-009; ER19-529-009; ER13-1613-017; ER10-2460-022; ER10-2461-023; ER10-2918-025; ER10-2920-025; ER12-682-023; ER10-2463-021; ER11-2201-027; ER22-192-003; ER10-2921-024; ER10-2922-024; ER13-17-021; ER10-2966-024; ER11-2383-020; ER12-1311-021; ER10-2466-022; ER22-1010-002; ER11-4029-021.

Applicants: Vermont Wind, LLC, TerraForm IWG Acquisition Holdings II, LLC, Stetson Wind II, LLC, Stetson Holdings, LLC, Safe Harbor Water Power Corporation, Rumford Falls Hydro LLC, Niagara Wind Power, LLC, Hawks Nest Hydro LLC, Great Lakes Hydro America, LLC, Evolugen Trading and Marketing LP, Evergreen Wind Power III, LLC, Evergreen Wind Power, LLC, Erie Wind, LLC, Erie Boulevard Hydropower, L.P., Carr Street Generating Station, L.P., Canandaigua Power Partners II, LLC, Canandaigua Power Partners, LLC, Brookfield White Pine Hydro LLC, Brookfield Renewable Trading and Marketing LP, Brookfield Renewable Energy Marketing US LLC, Brookfield Power Piney & Deep Creek LLC, Brookfield Energy Marketing US LLC, Brookfield Energy Marketing LP, Brookfield Energy Marketing Inc., BREG Aggregator LLC, Blue Sky East, LLC, Black Bear SO, LLC, Black Bear Hydro Partners, LLC, Black Bear Development Holdings, LLC, Bitter Ridge Wind Farm, LLC, Bishop Hill Energy LLC, BIF III Holtwood LLC,LSP Safe Harbor Holdings, LLC, Bear Swamp Power Company LLC.

Description: Response to 08/06/2025 Deficiency Letter of Brookfield Energy Marketing LP.

Filed Date: 9/4/25.

Accession Number: 20250904-5169.

Comment Date: 5 p.m. ET 9/25/25.

Docket Numbers: ER25-2904-001.

Applicants: Mid-Atlantic Interstate Transmission, LLC.

Description: Tariff Amendment: Supplemental Filing—MAIT SA No. 7222 to be effective 9/20/2025.

Filed Date: 9/5/25.

Accession Number: 20250905-5049.

Comment Date: 5 p.m. ET 9/26/25.

Docket Numbers: ER25-2905-001.

Applicants: American Transmission Systems, Incorporated.

Description: Tariff Amendment: Mid-Atlantic Interstate Transmission, LLC submits tariff filing per 35.17(b): Supplemental Filing—MAIT SA No. 7179 to be effective 9/20/2025.

Filed Date: 9/5/25.

Accession Number: 20250905-5047.

Comment Date: 5 p.m. ET 9/26/25.

Docket Numbers: ER25-3370-000.

Applicants: UNS Electric, Inc., Tucson Electric Power Company.

Description: § 205(d) Rate Filing: Tucson Electric Power Company submits tariff filing per 35.13(a)(2)(iii: Revisions to OATT and Formula Rate Protocols to be effective 11/4/2025.

Filed Date: 9/5/25.

Accession Number: 20250905-5000.

Comment Date: 5 p.m. ET 9/26/25.

Docket Numbers: ER25-3370-001.

Applicants: UNS Electric, Inc., Tucson Electric Power Company.

Description: Tariff Amendment: UNS Electric, Inc. submits tariff filing per 35.17(b): Amendment to Pending Filing to be effective 11/4/2025.

Filed Date: 9/5/25.

Accession Number: 20250905-5134.

Comment Date: 5 p.m. ET 9/26/25.

Docket Numbers: ER25-3371-000.

Applicants: Southwest Power Pool, Inc.

Description: § 205(d) Rate Filing: 4460 Burt County Solar GIA to be effective 8/20/2025.

Filed Date: 9/5/25.

Accession Number: 20250905-5018.

Comment Date: 5 p.m. ET 9/26/25.

Docket Numbers: ER25-3372-000.

Applicants: Idaho Power Company.

Description: § 205(d) Rate Filing: RS 182—SWIP N Participation and Joint Ownership Agreement to be effective 11/5/2025.

Filed Date: 9/5/25.

Accession Number: 20250905-5070.

Comment Date: 5 p.m. ET 9/26/25.

Docket Numbers: ER25-3373-000.

Applicants: Mount Storm Wind LLC.

Description: Tariff Amendment: Notice of Cancellation of Reactive Rate Schedule to be effective 9/5/2025.

Filed Date: 9/5/25.

Accession Number: 20250905-5078.

Comment Date: 5 p.m. ET 9/26/25.

Docket Numbers: ER25-3374-000.

Applicants: Craven County Wood Energy Limited Partnership.

Description: Tariff Amendment: Tariff Partial Notice of Cancellation to be effective 11/4/2025.

Filed Date: 9/5/25.

Accession Number: 20250905-5088.

Comment Date: 5 p.m. ET 9/26/25.

Docket Numbers: ER25-3375-000.

Applicants: Cordova Energy Company LLC.

Description: Petition of Cordova Energy Company, LLC for exception from PJM's Capacity Must Offer Requirement or, in the alternative, for limited waiver of Tariff and request for expedited action.

Filed Date: 9/3/25.

Accession Number: 20250903-5144.

Comment Date: 5 p.m. ET 9/24/25.

Docket Numbers: ER25-3376-000.

Applicants: Great Basin Transmission, LLC.

Description: § 205(d) Rate Filing: Great Basin Transmission Certificate of Concurrence Filing to be effective 11/5/2025.

Filed Date: 9/5/25.

Accession Number: 20250905-5123.

Comment Date: 5 p.m. ET 9/26/25.

Docket Numbers: ER25-3377-000.

Applicants: Tri-State Generation and Transmission Association, Inc.

Description: § 205(d) Rate Filing: Amendment to Rate Schedule FERC No. 375 to be effective 11/5/2025.

Filed Date: 9/5/25.

Accession Number: 20250905-5154.

Comment Date: 5 p.m. ET 9/26/25.

Take notice that the Commission received the following foreign utility company status filings:

Docket Numbers: FC25-4-000.

Applicants: I Squared Capital.

Description: AMHW-ENERGY Sp. z o.o., et al. submit Notice of Self-Certification of Foreign Utility Company Status.

Filed Date: 9/5/25.

Accession Number: 20250905-5021.

Comment Date: 5 p.m. ET 9/26/25.

Docket Numbers: FC25-5-000.

Applicants: I Squared Capital.

Description: Ferme Eolienne de Saint Pierre de Maille 2 S.A.S. submits Notice of Self-Certification of Foreign Utility Company Status.

Filed Date: 9/4/25.

Accession Number: 20250904-5165.

Comment Date: 5 p.m. ET 9/25/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern Time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: September 5, 2025.
Carlos D. Clay,
Deputy Secretary.

[FR Doc. 2025-17385 Filed 9-9-25; 8:45 am]

BILLING CODE 6717-01-P